DEPARTMENT OF DEFENSE

Office of the Secretary

Defense Science Board

AGENCY: Department of Defense.

ACTION: Notice of Advisory Committee Meeting.

SUMMARY: The Defense Science Board Task Force on Transformation: A Midcourse Assessment (Summer Study 2005) will meet in closed session on February 14-15, 2005; March 24-25, 2005; April 11-12, 2005; and May 10-11, 2005, at IDA, 4850 Park Center Drive, Room 6709, Alexandria, VA. This Task Force will provide an assessment of the Department of Defense's (DoD) continuing transformation process, describing the current status of the DoD's transformation efforts, identify the appropriate transformation objectives, and recommend ways and means to meet the emerging and persistent challenges as identified in the 2004 National Defense Strategy.

The mission of the Defense Science Board is to advise the Secretary of Defense and the Under Secretary of Defense for Acquisition, Technology & Logistics on scientific and technical matters as they affect the perceived needs of the Department of Defense. At these meetings, the Defense Science Board Task Force will review and evaluate the Department's ability to provide information the Secretary of Defense's 2003 Transformation Planning Guidance (TPG) outlined a three-part strategy for transformation: Transformed culture, Transformed processes, and Transformed capabilities. Within the Department's transformation scope and strategy, the Study should consider the following: (1) Focus on important functional concepts and capabilities, such as logistics and battlespace awareness, which provide essential elements to implementing joint concepts; (2) define the scope of the problem and capabilities DoD requires to address challenges of international competitors seeking to develop and possess break though technical capabilities intended to supplant U.S. advantages in particular operational domains; (3) assess the adequacy and effectiveness of DoD's approaches to realize the potential advantages of net-centric operations; (4) focus on DoD's needs to evolving forces to cover the spectrum of military engagement and accomplish the full range of missions; (5) assess the suitability of the structure of the defense industry to the needs of transformation; (6) examine how to adapt DoD's culture to producing personnel able to meet the high knowledge demands of interdependent joint, interagency, and multinational operations; and (7) study should evaluate progress made towards streamlining and reforming DoD's business processes.

In accordance with Section 10(d) of the Federal Advisory Committee Act, Public Law 92-463, as amended (5 U.S.C. App. 2), it has been determined that these Defense Science Board Task Force meetings concern matters listed in 5 U.S.C. 552b(c)(1) and that, accordingly, these meetings will be closed to the public.

Dated: January 18, 2005.
Jeanette Owings-Ballard,
OSD Federal Register Liaison Officer, Department of Defense.

[FR Doc. 05-1464 Filed 1-26-05; 8:45 am]

BILLING CODE 5001-06-M